DEFENSE NUCLEAR FACILITIES SAFETY BOARD

Extension of Hearing Record Closure Date

AGENCY: Defense Nuclear Facilities Safety Board.

ACTION: Extension of hearing record closure date.

SUMMARY: The Defense Nuclear Facilities Safety Board (Board) is extending the period of time for which its hearing record from July 13, 2021, will remain open. The hearing record will now close on September 13, 2021.

FOR FURTHER INFORMATION CONTACT: Tara Tadlock, Manager of Board Operations, (202) 694-7000.

SUPPLEMENTARY INFORMATION: The Board published a document in the Federal Register on July 7, 2021 (86 FR 35762). The publication concerned notice of a meeting and hearing on July 13, 2021, regarding the Savannah River Site. The Board stated in the July 7, 2021, notice that the hearing record would remain open until August 13, 2021, for the receipt of additional materials.

Extension of Time: The Board now extends the period of time for which the hearing record will remain open to September 13, 2021, to further accommodate, among other things, submission of answers to questions taken for the record during the course of the public hearing.

Dated: August 17, 2021.
Joyce Connery,
Chair.

[FR Doc. 2021-18078 Filed 8-20-21; 8:45 am]

BILLING CODE 3670-01-P